DEPARTMENT OF HOMELAND SECURITY

8 CFR Part 274a

[CIS No. 2441-08; Docket No. USCIS-2008-0001]

RIN 1615-AB69

Documents Acceptable for Employment Eligibility Verification; Correction

AGENCY: U.S. Citizenship and Immigration Services (USCIS), DHS.

ACTION: Final rule; correction.

SUMMARY: The Department of Homeland Security corrects an inadvertent error contained under FOR FURTHER INFORMATION CONTACT of the final rule titled Documents Acceptable for Employment Eligibility Verification published in the Federal Register on April 15, 2011. The e-mail address referenced in the final rule should read “E-verify@dhs.gov”.

DATES: This final rule is effective May 16, 2011.

FOR FURTHER INFORMATION CONTACT: Letitia Coffin, Verification Division, U.S. Citizenship and Immigration Services, Department of Homeland Security, 131 M Street, NE., Suite 200, Washington, DC 20002, telephone (888) 464-4218 or e-mail at E-verify@dhs.gov.

SUPPLEMENTARY INFORMATION:

Need for Correction

On April 15, 2011, the Department of Home land Security published a final rule in the Federal Register at 76 FR 21225 establishing Documents Acceptable for Employment Eligibility Verification. There was an inadvertent error in the document. The email referenced should be changed read “E-Verify@dhs.gov” instead of “Everify@dhs.gov”.

Christina E. McDonald,
Acting Associate General Counsel for Regulatory Affairs, Department of Homeland Security.

[FR Doc. 2011-10344 Filed 4-28-11; 8:45 am]

BILLING CODE 9111-97-P